NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. This is the required notice of a requested permit modification and permit issued.

DATES: October 30, 2016-January 31, 2023.

The permit modification was issued on August 17, 2021.

FOR FURTHER INFORMATION CONTACT: Polly Penhale, ACA Permit Officer, Office of Polar Programs, National Science Foundation, 2415 Eisenhower Avenue, Alexandria, VA 22314; 703-292-7420; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection.

NSF issued a permit (ACA 2017-014) to Leidos Innovations Group on October 30, 2016. The issued permit allows the permit holder to transit through three marine Antarctic Specially Protected Areas (ASPAs) (ASPA 145 Port Foster, Deception Island South Shetland Islands; ASPA 152 Western Bransfield Strait and ASPA 153 Eastern Dallmann Bay) when necessary to support logistics and research operations.

The permit holder proposes a permit modification to extend the expiration date of the permit until January 31, 2013. The Environmental Officer has reviewed the modification request and has determined that the amendment is not a material change to the permit, and it will have a less than a minor or transitory impact.

Erika N. Davis,
Program Specialist, Office of Polar Programs.

[FR Doc. 2021-17934 Filed 8-20-21; 8:45 am]

BILLING CODE 7555-01-P